FEDERAL COMMUNICATIONS COMMISSION

47 CFR Part 64

[CG Docket No. 17-59; FCC 25-15; FR ID 313272]

Advanced Methods To Target and Eliminate Unlawful Robocalls

AGENCY: Federal Communications Commission.

ACTION: Final rule; announcement of effective dates.

SUMMARY: In this document, the Federal Communications Commission (Commission) announces the effective date of the rules adopted in the Eighth Report and Order. Specifically, the Commission adopted rules to require all domestic voice service providers to block based on a reasonable do-not-originate list.

DATES: The effective date for the addition of 47 CFR 64.1200(o), published March 24, 2025, at 90 FR 13416 is effective December 15, 2025.

FOR FURTHER INFORMATION CONTACT: John B. Adams of the Consumer and Governmental Affairs Bureau at (202) 418-2854 or JohnB.Adams@fcc.gov. For information regarding the PRA information collection requirements contained in the PRA, contact Cathy Williams, Office of Managing Director, at (202) 418-2918, or Cathy.Williams@fcc.gov.

SUPPLEMENTARY INFORMATION: This document announces that the Office of Management and Budget (OMB) approved the information collection requirements in 47 CFR 64.1200(o) on August 5, 2025. The OMB control number that the information collection was approved under is 3060-1306. In the Eighth Report and Order, the Commission concluded that the appropriate timeframe for implementation of these new rules is ninety days following publication in the Federal Register of notice that OMB has completed any required review of the adopted rules. The Commission publishes this document as an announcement of the effect date of these rules.

The full text of document FCC 25-15 is available online at https://docs.fcc.gov/public/attachments/FCC-25-15A1_Rcd.pdf. To request this document in accessible formats for people with disabilities (e.g., Braille, large print, electronic files, audio format) or to request reasonable accommodations (e.g., accessible format documents, sign language interpreters, CART), send an email to fcc504@fcc.gov or call the FCC's Consumer and Governmental Affairs Bureau at (202) 418-0530 (voice).

Federal Communications Commission.
Marlene Dortch,
Secretary, Office of the Secretary.

[FR Doc. 2025-17898 Filed 9-15-25; 8:45 am]

BILLING CODE 6712-01-P